DEPARTMENT OF THE TREASURY

Senior Executive Service; Departmental Offices; FY 2005 Performance/Bonus Review Board

AGENCY: Treasury Department.

ACTION: Notice of membership of the Departmental Offices Performance/Bonus Review Board.

EFFECTIVE DATE: Membership is effective on the date of this notice.

SUMMARY: Pursuant to 5 U.S.C. 4314(c)(4), this notice announces the appointment of members of the Departmental Offices Performance/Bonus Review Board. The purpose of this Board is to review and make recommendations concerning proposed Performance ratings, bonuses and other appropriate personnel actions for incumbents of SES positions. The Board shall consist of at least three members. In the case of an appraisal of a career appointee, more than half the members shall consist of career appointees. The names and titles of the Board members are attached.

FOR FURTHER INFORMATION CONTACT: Melissa Talavera, Supervisory Human Resources Specialist, Department of the Treasury, Office of Human Resources, 1500 Pennsylvania Avenue, NW., Washington, DC 20220, Telephone: (202) 622-1044.

Joy Charles,
Director, Office of Human Resources.

FY 2005 Performance/Bonus Review Board
[For listing in Federal Register]
Name | Official title
Carfine, Kenneth E | DAS for Fiscal Operations and Policy.
Fuller, Reese H | ACD Program Director.
Gardner, Janice B | Assistant Secretary for Intelligence and Analysis.
Gerardi, Geraldine A | Director for Business Taxation.
Granat, Rochelle | Director, Office of DC Pensions.
Hammerle, Barbara C | Deputy Director, Office of Foreign Assets Control.
Hammond, Donald V | Fiscal Assistant Secretary.
Hobbs, Ira L | DAS & Chief Information Officer.
Lee, Nancy | DAS (Eurasia & Middle East).
Loevinger, David G | Director, Office of East Asian Nations.
Nunns, James R | Director for Individual Taxation.
Pointer, Patricia J | Acting Deputy Assistant Secretary for Human Resources/CHCO.
Relic, Rebecca L | DAS (Pub Lia, Str Pl, Bus Dev).
Schott, Charles G | DAS (Trade & Invest Policy).
Shaw, Mary Beth | Executive for DC Pensions Policy Development.
Sills, Gay H | Director, Office of International Investment.
Sobel, Mark D | DAS (Intl Banking & Sec Markets).
Solomon, Eric | DAS (Regulatory Affairs).
Werner, Robert W | Director, Office of Foreign Assets Control.

[FR Doc. 05-19042 Filed 9-22-05; 8:45 am]

BILLING CODE 4811-33-P